ENVIRONMENTAL PROTECTION AGENCY

[FRL-9429-8]

Availability of Final NPDES General Permits MAG580000 and NHG580000 for Discharges From Publicly Owned Treatment Works Treatment Plants (POTW Treatment Plants) and Other Treatment Works Treating Domestic Sewage in the Commonwealth of Massachusetts and the State of New Hampshire

AGENCY: Environmental Protection Agency (EPA).

ACTION: Notice.

SUMMARY: The Director of the Office of Ecosystem Protection, EPA-New England, is issuing a notice of availability of the final National Pollutant Discharge Elimination System (NPDES) General Permits for certain Publicly Owned Treatment Works Treatment Plants (POTW treatment plants) and Other Treatment Works Treating Domestic Sewage (collectively, “facilities”) in the Commonwealth of Massachusetts (including both Commonwealth and Indian country lands) and the State of New Hampshire. Throughout this document, these two permits are collectively referred to as the “Publicly Owned Treatment Works General Permit” (“POTW GP” or the “General Permit”). The General Permit replaces the prior POTW GP, which expired on September 23, 2010 (the “expired POTW GP”).

The POTW GP establishes Notice of Intent (“NOI”) requirements as well as effluent limitations, standards, and prohibitions for facilities that discharge to fresh and marine waters. Coverage under these General Permits is available to facilities in Massachusetts classified as minor facilities and to facilities in New Hampshire classified as major or minor facilities. Owners and/or operators of these facilities, including those facilities whose authorization to discharge under the expired POTW GP was administratively continued in accordance with the Administrative Procedures Act (5 U.S.C. 558(c)) and 40 CFR 122.6, will be required to submit an NOI to be covered by the final POTW GP to both EPA-New England and the appropriate state agency, in accordance with the notification requirements of the General Permit. Following EPA and State review of the NOI, the facility will receive written notification from EPA whether coverage and authorization to discharge under the General Permit has been granted. The eligibility requirements for permit coverage, including the requirement that a facility have a receiving water dilution factor equal to or greater than 50, are provided in the General Permit. The General Permit does not cover new sources as defined under 40 CFR 122.2.

DATES: The POTW GP shall be effective on July 6, 2011 and will expire at midnight, July 6, 2016. In accordance with 40 CFR Part 23, these permits shall be considered issued for the purpose of judicial review two (2) weeks after the Federal Register Publication. Under Section 509(b)(2) of the Clean Water Act, the requirements in this permit may not be challenged at a later date in civil or criminal proceedings to enforce these requirements. In addition, these permits may not be challenged in other agency proceedings.

ADDRESSES: The required notification information to obtain permit coverage is provided in the POTW GP. This information shall be submitted to both EPA and the appropriate state agency. Notification information may be sent via regular or overnight mail to EPA-Region 1, Office of Ecosystem Protection, OEP06-1, 5 Post Office Square-Suite 100, Boston, Massachusetts 02109-3912; and to the appropriate state agency at the addresses provided in Attachment F to the POTW GP.

FOR FURTHER INFORMATION CONTACT: Additional information concerning the final POTW GP may be obtained by contacting Meridith Timony at 617-918-1533, between the hours of 9 a.m. and 5 p.m., Monday through Friday, excluding holidays. The General Permit and the Response to Comments document may be viewed over the Internet via the EPA-Region I Web site at http://www.epa.gov/region1/npdes/potw-gp.html. To obtain a paper copy of the documents, please contact Meridith Timony using the contact information provided above. A reasonable fee may be charged for copying requests.

Dated: May 26, 2011.
Ira W. Leighton,
Acting Regional Administrator, Region 1.

[FR Doc. 2011-16936 Filed 7-5-11; 8:45 am]

BILLING CODE 6560-50-P